AFRICAN DEVELOPMENT FOUNDATION

Sunshine Act Meeting: Board of Directors Meeting

Time: Tuesday, January 30, 2007, 2 p.m. to 6:15 p.m.

Place: African Development Foundation, Conference Room, 1400 I Street, NW., Suite 1000, Washington, DC 20005.

Date: Tuesday, January 30, 2007.

Status:

1. Open session, January 30, 2007, 2 p.m. to 5:30 p.m.; and,

2. Closed session, January 30, 2007, 5:40 p.m. to 6:15 p.m.

Due to security requirements and limited seating, all individuals wishing to attend the open sessions of the meeting must notify Doris Martin, General Counsel, at (202) 673-3916 or mrivard@adf.gov of your request to attend by 2 p.m. on Monday, January 29, 2007.

Rodney J. MacAlister,
President.

[FR Doc. 07-420 Filed 1-26-07; 2:34 pm]

BILLING CODE 6117-01-P